FEDERAL COMMUNICATIONS COMMISSION

[FCC 00-60]

Federal Communications Commission Announces Change to the Election Date for 218-219 MHz Service

AGENCY: Federal Communications Commission.

ACTION: Notice.

SUMMARY: The Federal Communications Commission (Commission) is changing the election date for 218-219 MHz service in order to address the issues raised in the various petitions for reconsideration received sufficiently in advance of the deadline for mailing. A Public Notice announcing the new election date will be issued after the Order addressing the petitions is released.

FOR FURTHER INFORMATION CONTACT: Ben Freeman or Nicole Oden, Auctions and Industry Analysis Division, Wireless Telecommunications Bureau, at (202) 418-0660.

SUPPLEMENTARY INFORMATION: This is a summary of a Public Notice released February 18, 2000 (Notice). The complete text of the Notice is available for inspection and copying during normal business hours in the FCC Reference Center (Room CY-A257), 445 12th Street, SW, Washington, DC. It may also be purchased from the Commission's copy contractor, International Transcription Services, Inc., (ITS, Inc.) 1231 20th Street, NW, Washington, DC 20035, (202) 857-3800. It is also available on the Commission's web site at http://www.fcc.gov/wtb/auctions.

1. On September 7, 1999, the Commission adopted the 218-219 MHz Order, 64 FR 59656 (November 3, 1999), which, among other things, modified service and technical rules for the band and extended the license term from five to ten years. The Commission also adopted a restructuring plan for existing licensees that:

(i) Were current on installment payments as of March 16, 1998;

(ii) Were less than ninety days delinquent on the last installment payment due before March 16, 1998; or

(iii) Had pending properly filed grace period requests under the former installment payment rules (“Eligible Licensees”).

The Commission permitted Eligible Licensees to choose between three options: (a) Reamortization and Resumption of Payments; (b) Amnesty; or (c) Prepayment. Eligible Licenses that fail to submit an election with respect to any license by Election Day will be assumed to have elected Amnesty.

2. On December 28, 1999, a Preliminary Implementation Procedures, Public Notice (15 FCC Rcd. 22) was issued which announced that Eligible Licensees had to make their elections by 7:00 p.m., Tuesday, February 29, 2000.

3. The Commission has received various petitions for reconsideration of the 218-219 MHz Order. In order to address the issues raised in the petitions for reconsideration sufficiently in advance of Election Day, the Commission has determined to change the Election Day. The new date will be the last, business day of the first full month after an Order on the petitions for reconsideration is released by the Commission. A public notice announcing the new election date will be issued after the Order addressing the petitions is released.

4. Documents related to this rule making proceeding and its implementation may be found on the Federal Communications Commission web site located at http://www.fcc.gov/wtb/auctions/218rest/218rest.html.

Federal Communications Commission.
Louis J. Sigalos,
Deputy Chief, Auctions and Industry Analysis Division.

[FR Doc. 00-4835 Filed 2-29-00; 8:45 am]

BILLING CODE 6712-01-P